FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than October 21, 2009.

A. Federal Reserve Bank of Minneapolis (Jacqueline G. King, Community Affairs Officer) 90 Hennepin Avenue, Minneapolis, Minnesota 55480-0291:

1. Belva H. Rasmussen 2009 Grantor Retained Annuity Trust, Falcon Heights, Minnesota; Eva B. Rasmussen, Edina, Minnesota; Pamela M. Harris, Falcon Heights, Minnesota; and Teresa Rasmussen Trangsrud, Orono, Minnesota, trustees, to join a group acting in concert with Belva H. Rasmussen, individually, and with Belva H. Rasmussen, Teresa Rasmussen Trangsrud and Lyle Delwyche, trustees of the Walter C. Rasmussen Marital Trust Under Agreement dated December 26, 1985, and the Walter C. Rasmussen Family Trust Under Agreement dated December 26, 1985 (together, the “Rasmussen Family Group”, and to acquire voting shares of Northeast Securities Corporation, and thereby indirectly acquire voting shares of Northeast Bank, both of Minneapolis, Minnesota.

B. Federal Reserve Bank of San Francisco (Kenneth Binning, Vice President, Applications and Enforcement) 101 Market Street, San Francisco, California 94105-1579:

1. Thomas A. and Maureen Sue Ellison, to acquire additional voting shares of Foundation Bancorp, Inc., and thereby indirectly acquire voting shares of Foundation Bank, all of Bellevue, Washington.

Board of Governors of the Federal Reserve System, October 1, 2009.
Robert deV. Frierson,
Deputy Secretary of the Board.

[FR Doc. E9-24037 Filed 10-5-09; 8:45 am]

BILLING CODE 6210-01-S